DEPARTMENT OF HEALTH AND HUMAN SERVICES

Office of Public Health and Science; Announcement of Availability of Grants for Adolescent Family Life Demonstration Projects

AGENCY: Office of Adolescent Pregnancy Programs, Office of Population Affairs, OPHS, HHS.

ACTION: Notice.

SUMMARY: The Office of Adolescent Pregnancy Programs (OAPP) requests applications for prevention grants under the Adolescent Family Life (AFL) Demonstration Projects Program, as authorized by Title XX of the Public Health Service Act. These grants are for community-based and community-supported demonstration projects to find effective means of preventing pregnancy by encouraging adolescents to abstain from sexual activity through provision of age-appropriate education on sexuality and decision-making skills. Faith-based organizations are eligible to apply for these demonstration grants. These Title XX grants should clearly and consistently focus on promoting abstinence as the most effective way of preventing unintended pregnancy and sexually transmitted infections (STIs), including HIV. All adolescents under age 19 are eligible for services. Funds will be available for approximately 35 projects, which may be located in any State, the District of Columbia, and United States territories, commonwealths and possessions.

DATES: The closing date for this grant announcement is March 11, 2002. Applications will be considered as meeting the deadline if they are postmarked on or before the closing date. A legibly dated receipt from a commercial carrier or U.S. Postal Service will be accepted in lieu of a postmark. Private metered postmarks will not be accepted as proof of timely mailing. All hand delivered applications must be received between the hours of 8:30 am and 5 pm on or before the above closing date. Applications which do not meet the deadline will be considered late applications and will be returned to the applicant. Applications will not be accepted by fax or e-mail. The submission deadline will not be extended.

ADDRESSES: Application kits consisting of the appropriate forms, a copy of the Title XX legislation, and guidance on the preparation of the application may be downloaded from the following INTERNET address: http://opa.osophs.dhhs.gov. If you do not have access to the INTERNET, you may obtain a kit from the Grants Management Office, Office of Population Affairs, 4350 East-West Highway, Suite 200, Bethesda, MD 20814. Written requests for application kits may be faxed to (301) 594-5981. All completed applications must be submitted to the Grants Management Office at the above mailing address. In preparing the application, it is important to follow ALL instructions contained in the application kit.

FOR FURTHER INFORMATION CONTACT: The OAPP Program Office at (301) 594-4004. OAPP staff members are available to answer questions and provide limited technical assistance in the preparation of grant applications. Questions may also be sent to OAPP staff via e-mail at opa@osophs.dhhs.gov. If contacting the OAPP by e-mail, please place the phrase “AFL Prevention Question” in the subject heading.

SUPPLEMENTARY INFORMATION: Title XX of the Public Health Service Act, 42 U.S.C. 300z. et seq., authorizes the Secretary of Health and Human Services to award grants for demonstration projects to provide services to pregnant and nonpregnant adolescents, adolescent parents and their families (Catalog of Federal Domestic Assistance Number 93.995).

Under this program announcement, OAPP intends to make available approximately $6.5 million to support an estimated 35 new PREVENTION demonstration projects only. The awards will range from $150,000 to $250,000.

Please note, in Fiscal Year (FY) 1999, OAPP issued a similar Request for Applications (RFA) announcing approximately $3 million for new abstinence education prevention demonstration projects. In response to that FRA, OAPP received 142 grant applications and was able to fund only 17 new projects.

Grants may be approved for project periods of up to five years. Grants are funded in annual increments (budget periods). Funding for all approved budget periods beyond the first year of the grant is contingent upon the availability of funds, satisfactory progress of the project, and adequate stewardship of Federal funds. A grant award may not exceed 70 percent of the total costs of the project for the first and second years, 60 percent of the total costs for the third year, 50 percent for the fourth year and 40 percent for the fifth year. The non-Federal share of the project costs may be provided in cash expenditures or fairly evaluated in-kind contributions, including facilities, equipment and services.

Applications are encouraged from organizations which are currently operating programs and which have the capability of expanding and enhancing these services to serve significant numbers of adolescents according to the guidelines specified in this announcement.

The specific services which may be funded under Title XX are listed below under the heading entitled “PREVENTION SERVICES.”

The following application requirements contain information collections subject to OMB approval under the Paperwork Reduction Act of 1995 (Pub. L. 104-13). These information collections have been approved by OMB under control number 0937-0198.

Technical Assistance

The OAPP has scheduled a series of technical assistance workshops to help prospective applicants. At each of the one-day workshops, the public will be able to learn more about the purposes and requirements of the Title XX program, how to apply for funds under this program announcement, program eligibility requirements, the application selection process, and considerations that might help to improve the quality of grant applications. These workshops are offered at no cost. However, all participants must preregister using the form at http://opa.osophs.dhhs.gov or you may obtain a registration form from the OAPP at (301) 594-4004. Written requests for registration forms may be faxed to (301) 594-5981. The address of workshop locations and logistical information will be faxed or e-mailed back to you upon receipt of your registration.

Workshop Dates and Locations: January 22, 2002—Omaha, NE; January 23, 2002—Billings, MT; January 24, 2002—Seattle, WA; January 25, 2002—Las Vegas, NV; January 28, 2002—Charleston, SC; January 29, 2002—Dallas, TX; January 29, 2002—Indianapolis, IN; January 30, 2002—Providence, RI; January 31, 2002—Newark, NJ; and February 1, 2002—Dulles, VA.

Eligible Applicants

Any public or private nonprofit organization or agency is eligible to apply for a grant. However, only those organizations or agencies which demonstrate the capability of providing the proposed services and meet the statutory requirements are considered for grant awards.

Youth Development or Developmental Assets Approach

Holistic approaches to preventing teen pregnancy are often termed “youth development” or “developmental assets.” It has been documented that successful holistic projects are those where adolescents themselves are an integral part of the design, implementation, and evaluation phases over the life of the project. Adolescents need to see hope for a future, acquire the skills necessary to turn hopes into reality, and be provided with an array of opportunities to get them to that reality.

The OAPP encourages applicants to take a holistic approach that addresses the societal disparities that contribute adolescent pregnancy, such as unequal access to enrichment programs, job opportunities, support groups, etc. In addition, the OAPP encourages applicants to provide opportunities for improving the adolescents' sense of self through cultural understanding, sports and recreation, visual and performing arts, and other activities that build an adolescent's sense of self-worth and self-efficacy, as long as these activities contain an educational component. All services provided by AFL grantees, however, including all activities that are part of a holistic approach, must be within the scope of the Title XX prevention services listed below and must not be inconsistent with “abstinence education” as defined in the “Personal Responsibility and Work Opportunity Reconciliation Act of 1996,” Pub. L. No. 104-193.

Prevention Services

Under this announcement, funds are available for abstinence education PREVENTION projects only. Community-based, community-supported, faith-based and school-based applicants are encouraged to apply. The project site must be identified in the application rather than selected after the grant is awarded.

Under the Title XX statute, the primary purpose of prevention programs is to find effective means of reaching adolescents, both male and female, before they become sexually active in order to encourage them to abstain from sexual activity. There is general agreement that early initiation of sexual activity brings not only the risk of unintended pregnancy but also substantial health risks to adolescents, primarily infection with STIs, including HIV. Accordingly, applicants must clearly and consistently focus on abstinence as the most effective way of preventing unintended pregnancy and STIs and must provide services that help pre-adolescents and adolescents acquire knowledge and skills that will instill healthy attitudes and encourage and support abstinence from sexual activity. Any information provided for adolescents who may be or become sexually active, which relates to reducing the risk of unintended pregnancy and disease, must be medically accurate and must be presented within the context that abstinence is the most effective choice and is what the project recommends.

Under the statutory requirements of Title XX, applicants for prevention programs are not required to provide any specific array of services. OAPP encourages the submission of applications which focus on educational services relating to family life and which teach the social, psychological and health gains to be realized by abstaining from sexual activity. The legislation also permits a proposal to include any one or more of the following services as appropriate:

(1) Educational services relating to family life and problems associated with adolescent premarital sexual relations including:

(a) Information about adoption,

(b) Education on the responsibilities of sexuality and parenting,

(c) The development of material to support the role of parents as the providers of sex education, and

(d) Assistance to parents, schools, youth agencies and health providers to educate adolescents and preadolescents concerning self-discipline and responsibility in human sexuality;

(2) Appropriate educational and vocational services;

(3) Counseling for the immediate and extended family members of the eligible person;

(4) Transportation;

(5) Outreach services to families of adolescents to discourage sexual relations among unemancipated minors; and

(6) Nutrition information and counseling.

In addition to the Title XX statutory requirements, programs must not be inconsistent with abstinence education as defined in the “Personal Responsibility and Work Opportunity Reconciliation Act of 1996,” Pub. L. No. 104-193. Accordingly, under this announcement the term “abstinence education” means an educational or motivational program which:

A. Has as its exclusive purpose, teaching the social, psychological, and health gains to be realized by abstaining from sexual activity;

B. Teaches abstinence from sexual activity outside marriage as the expected standard for all school age children;

C. Teaches that abstinence from sexual activity is the only certain way to avid out-of-wedlock pregnancy, sexually transmitted diseases, and other associated health problems;

D. Teaches that a mutually faithful monogamous relationship in context of marriage is the expected standard of human sexual activity;

E. Teaches that sexual activity outside of the context of marriage is likely to have harmful psychological and physical effects;

F. Teaches that bearing children out-of-wedlock is likely to have harmful consequences for the child, the child's parents, and society;

G. Teaches young people how to reject sexual advances and how alcohol and drug use increases vulnerability to sexual advances; and

H. Teaches the importance of attaining self-sufficiency before engaging in sexual activity.

Faith-based and community-based organizations are eligible to apply for AFL grants. Please note, however, that no funds provided through the AFL program may be expended for sectarian instruction, worship, prayer, or proselytization. If a religious organization offers such activities, they shall be voluntary for the individuals receiving services and offered separately from the program funded under the AFL program. An AFL program cannot discriminate in providing program services to an individual on the basis of religion, a religious belief, or refusal to hold a religious belief.

The grantee shall submit all curricula and educational materials for use in the AFL project, whether currently available or to be developed, to OAPP for review and approval prior to use in the AFL project, to ensure that these materials are medically accurate, do not violate the restrictions on sectarian activities, and comply with the statutory prohibition on advocating, promoting, encouraging or providing abortions.

Evaluation

Section 2006(b)(1) of Title XX requires each grantee to expend at lease one percent but not more than five percent of the Federal funds received under Title XX on evaluation of the project. Waivers of the five percent limit on evaluation may be granted by OAPP in cases where a more rigorous or comprehensive evaluation effort is proposed (see sec. 2006(b)(1)). As this is a demonstration program, all applications are required to have an evaluation component of high quality consistent with the scope of the proposed project and the funding level. All project evaluations should monitor program processes to determine whether the program has been carried out as planned and measure the program's outcomes.

The OAPP encourages applications to include a proposed goal(s) statement and related outcome objectives. A goal is a general statement of what the project hopes to accomplish. It should reflect the long-term desired impact of the project on the target group(s) as well as reflect the program goals contained in this program announcement. An outcome objective is a statement which defines a measurable result the project expects to accomplish. Outcome objectives should be described in terms that measure the results the project will bring about (e.g., decrease in premarital sexual activity among the treatment group, increase in intent to remain abstinent among the treatment group). Good applications should contain a few outcome objectives that are specific, measurable, achievable, realistic and time-framed (S.M.A.R.T.).

Specific: An objective should specify one major result directly related to the program goal, state who is going to be doing what, to whom, by how much, and in what time-frame. It should specify what will be accomplished and how the accomplishment will be measured.

Measurable: An objective should be able to describe in realistic terms the expected results and specify how such results will be measured.

Achievable: The accomplishment specified in the objective should be achievable within the proposed time line and as a direct result of program activities.

Realistic: The objective should be reasonable in nature. The specified outcomes, expected results, should be described in realistic terms.

Time-framed: An outcome objective should specify a target date or time for its accomplishments. It should state who is going to be doing what, by when, etc. The Public Management Institute, How to Get Grants (1981).

Section 2006(b)(2) of Title XX requires that the evaluations be conducted by an organization or entity independent of the grantee providing services. To assist in conducting the evaluations, each grantee shall develop a working relationship with a college or university located in the grantee's state which will provide or assist in providing monitoring and evaluation of the proposed program. The OAPP strongly recommends extensive collaboration between the applicant organization and the proposed evaluator in the development of the program goals and objectives of the intervention, identification of the variables to be measured, a clear and organized timetable for initiation of the intervention, baseline measurement, and ongoing evaluation data collection and analysis strategies. Additionally, it is important to establish this collaborative relationship between the applicant organization and the proposed evaluator when preparing the application to ensure that the project's proposed goals and objectives and the evaluation are consistent with each other. The proposed evaluator should be included in the program planning meetings to ensure that there is uniformity in the intended outcomes of the program.

Application Requirements

Applications must be submitted on the forms supplied (OPHS-1, Revised 6/2001) and in the manner prescribed in the application kits provided by the OAPP. Applicants are required to submit an application signed by an individual authorized to act for the applicant agency or organization and to assume for the organization the obligations imposed by the terms and conditions of the grant award. The program narrative should not be longer than 50 double-spaced pages.

Applicants must be familiar with Title XX in its entirety to ensure that they have complied with all applicable requirements. A copy of the legislation is included in the application kit.

Additional Requirements

Applicants for grants must also meet both of the following requirements (each year):

(1) Requirements for Review of an Application by the Governor. Section 2006(e) of Title XX requires that each applicant shall provide the Governor of the State in which the applicant is located a copy of each application submitted to OAPP for a grant for a demonstration project for services under this Title. The Governor has 60 days from the receipt date in which to provide comments to the applicant. An applicant may comply with this requirement by submitting a copy of the application to the Governor of the State in which the applicant is located at the same time the application is submitted to OAPP. To inform the Governor's office of the reason for the submission, a copy of this notice should be attached to the application.

(2) Requirements for Review of an Application Pursuant to Executive Order 12372 (SPOC Requirements). Applications under this announcement are subject to the review requirements of E.O. 12372, “Intergovernmental Review of Federal Programs,” as implemented by 45 CFR part 100, “Intergovernmental Review of Department of Health and Human Services Programs and Activities.” E.O. 12372 sets up a system for state and local government review of proposed Federal assistance applications. As soon as possible, the applicant (other than Federally-recognized Indian tribal governments) should contact the State Single Point of Contact (SPOC) for each state in the area to be served. The application kit contains the currently available listing of the SPOCs which have elected to be informed of the submission of applications. For those states not represented on the listing, further inquiries should be made by the applicant regarding submission to the relevant SPOC. The SPOC's comment(s) should be forwarded to the Grants Management Office, Office of Population Affairs, 4350 East-West Highway, Suite 200, Bethesda, MD 20814. The SPOC has 60 days from the closing date of this announcement to submit any comments.

Application Assessment and Evaluation Criteria

Applications which are judged to be late or which do not conform to the requirements of this program announcement will not be accepted for review. Applicants will be so notified, and the applications will be returned. All other applications will be reviewed by a multi-disciplinary panel of independent reviewers and assessed according to the following criteria:

(1) The applicant's provision of a clear statement of mission, goals, measurable (outcome) objectives, reasonable methods for achieving the objectives, a reasonable workplan and timetable, and clear statements of expected results. (25 points)

(2) The capacity of the applicant to implement the program, including personnel and other resources, and the applicant's experience and expertise in providing programs for adolescents. (15 points)

(3) The population the project proposes to serve, including ethnic composition, number of adolescent and pre-adolescent clients, family members and community members. [Healthy People 2010 is a set of health objectives for the Nation to achieve over the first decade of the new century. The two goals of Healthy People 2010 are to increase quality of years of healthy life and to eliminate health disparities. In evaluating this criterion, priority will be given to programs which serve minority populations in order to eliminate health disparities.] (15 points)

(4) The applicant's presentation of a detailed evaluation plan, indicating an understanding of program evaluation methods, and reflecting a practical and technically sound approach to assessing the project's achievement of program objectives. (15 points)

(5) The applicant's presentation of the need for the project, including the incidence of adolescent pregnancy in the geographic area to be served and the availability of services for adolescents within this geographic area. (10 points)

(6) The applicant's presentation of an organizational model for service delivery with appropriate design, consistent with the requirements of Title XX. (10 points)

(7) The community commitment to and involvement in planning and implementation of the project, as demonstrated by letters of commitment and willingness to participate in the project's implementation, acceptance of referrals, etc. (10 points)

Final grant award decisions will be made by the Deputy Assistant Secretary for Population Affairs. In making these decisions, the Deputy Assistant Secretary for Population Affairs will take into account the extent to which applications recommended for approval will provide an appropriate geographic distribution of resources, the priorities in sec. 2005(a), and other factors including:

(1) Recommendations and scores submitted by the review panels;

(2) The geographic area to be served, particularly the needs of rural areas;

(3) The reasonableness of the estimated cost of the project based on factors such as the incidence of adolescent pregnancy in the geographic area to be served and the availability of services for adolescents in this geographic area; and

(4) The usefulness for policymakers and service providers of the proposed project and its potential for replication.

OAPP does not release information about individual applications during the review process until final funding decisions have been made. When these decisions have been made, applicants will be notified by letter of the outcome of their applications. The official document notifying an applicant that an application has been approved for funding is the Notice of Grant Award, which specifies to the grantee the amount of money awarded, the purpose of the grant, the terms and conditions of the grant award, and the amount of funding to be contributed by the grantee to project costs.

Dated: January 4, 2002.
Mireille B. Kanda,
Acting Director, Office of Population Affairs.

[FR Doc. 02-517 Filed 1-8-02; 8:45 am]

BILLING CODE 4150-30-M